DEPARTMENT OF TRANSPORTATION

Surface Transportation Board

[STB Docket Nos. AB-55 (Sub-No. 639X) and AB-565 (Sub-No. 15X)]

CSX Transportation, Inc.—Discontinuance Exemption—In Henry County, IN and New York Central Lines, LLC—Discontinuance Exemption—in Henry County, IN

On August 18, 2003, New York Central Lines, LLC and CSX Transportation, Inc. (CSXT) (together petitioners), jointly filed with the Surface Transportation Board (Board) a petition under 49 U.S.C. 10502 for exemption from the provisions of 49 U.S.C. 10903 to discontinue service over a 1.64-mile line of railroad in CSXT's Western Region, Great Lakes Division, Indianapolis Line Subdivision, extending from milepost QIN 95.34 to milepost QIN 96.98, in New Castle, Henry County, IN. The line traverses U.S. Postal Service Zip Code 47632, and includes no stations.

The line does not contain Federally granted rights-of-way. Any documentation in the petitioners' possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by December 5, 2003.

Any offer of financial assistance to subsidize continued rail service under 49 CFR 1152.27(b)(2) will be due no later than 10 days after service of a decision granting the petition for exemption. Each offer must be accompanied by a $1,100 filing fee. See 49 CFR 1002.2(f)(25).

This proceeding is exempt from environmental reporting requirements under 49 CFR 1105.6(c) and from historic reporting requirements under section 1105.8(b).¹

¹ In addition, because these are discontinuance proceedings and an abandonment is not proposed, trail use/rail banking and public use conditions are not appropriate.

All filings in response to this notice must refer to STB Docket Nos. AB-55 (Sub-No. 639X) and AB-565 (Sub-No. 15X) and must be sent to: (1) Surface Transportation Board, 1925 K Street, NW., Washington, DC 20423-0001; and (2) Natalie S. Rosenberg, 500 Water Street, J150, Jacksonville, FL 32202. Replies to the petition are due on or before September 25, 2003.

Persons seeking further information concerning discontinuance procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

Board decisions and notices are available on our Web site at “www.stb.dot.gov.”

Decided: August 28, 2003.
By the Board, David M. Konschnik, Director, Office of Proceedings.
Vernon A. Williams,
Secretary.

[FR Doc. 03-22512 Filed 9-4-03; 8:45 am]

BILLING CODE 4915-00-P